DEPARTMENT OF COMMERCE

Bureau of Industry and Security

15 CFR Parts 738, 740, and 772

[Docket No. 031010256-3256-01]

RIN 0694-AC90

Addition of Kazakhstan to the Nuclear Suppliers Group (NSG), and Other Revisions

AGENCY: Bureau of Industry and Security, Commerce.

ACTION: Final rule.

SUMMARY: As a result of the admission of Kazakhstan to the Nuclear Suppliers Group (NSG), this rule amends the Export Administration Regulations (EAR) to add Kazakhstan to Country Group A, Column A:4, which identifies the member countries of the NSG, and to the definition of “Nuclear Suppliers Group.” The NSG member countries have agreed to establish export licensing procedures for the transfer of items identified on the Annex to the “Nuclear-Related Dual-Use Equipment, Materials, and Related Technology List,” which is published by the International Atomic Energy Agency.

This action will lessen the administrative burden on U.S. exporters by decreasing licensing requirements for exports of items controlled for nuclear nonproliferation (NP) reasons to Kazakhstan.

DATES: This rule is effective October 22, 2003.

FOR FURTHER INFORMATION CONTACT: For questions of a general nature, call Sharron Cook, Regulatory Policy Division, at (202) 482-2440.

For questions of a technical nature, contact Steve Claggett, Nuclear Technology Division, at (202) 482-3550.

SUPPLEMENTARY INFORMATION:

Background

As a result of the admission of Kazakhstan to the Nuclear Suppliers Group (NSG), this rule amends the Export Administration Regulations (EAR) by revising Supplement No. 1 to Part 740, to add Kazakhstan to Country Group A, Column A:4 (Nuclear Suppliers Group) and by revising Supplement No. 1 to Part 738 by removing the license requirement for Kazakhstan under NP Column 1 in conformance with the licensing policy that applies to other NSG member countries. Please note that exports of items controlled for nuclear nonproliferation (NP) reasons to Kazakhstan may require a license for other reasons set forth in the Commerce Control List or elsewhere in the EAR. This rule also revises the definition for “Nuclear Suppliers Group (NSG)”, in part 772, to include Kazakhstan.

Although the Export Administration Act expired on August 20, 2001, Executive Order 13222 of August 17, 2001 (66 FR 44025, August 22, 2001), as extended by the Notice of August 7, 2003 (68 FR 47833, August 11, 2003), continues the Regulations in effect under the International Emergency Economic Powers Act.

Rulemaking Requirements

1. This final rule has been determined to be not significant for purposes of E.O. 12866.

2. Notwithstanding any other provision of law, no person is required to respond to nor be subject to a penalty for failure to comply with a collection of information subject to the requirements of the Paperwork Reduction Act unless that collection of information displays a current valid OMB Control Number. This regulation involves collections previously approved by the Office of Management and Budget under control numbers 0694-0088, “Multi-Purpose Application,” which carries a burden hour estimate of 45 minutes per manual submission and 40 minutes per electronic submission. Miscellaneous and record keeping activities account for 12 minutes per submission.

3. This rule does not contain policies with Federalism implications as that term is defined in Executive Order 12612.

4. The provisions of the Administrative Procedure Act requiring notice of proposed rule making, the opportunity for public participation, and a delay in effective date, are inapplicable because this regulation involves a military or foreign affairs function of the United States (see 5 U.S.C. 553(a)(1)). Further, no other law requires that a notice of proposed rule making and an opportunity for public comment be given for this rule. Because a notice of proposed rule making and opportunities for public comment are not required to be given for this rule by 5 U.S.C. 553, or by any other law, the analytical requirements of the Regulatory Flexibility Act, 5 U.S.C. 601 et seq., are inapplicable.

Therefore, this regulation is issued in final form. Although there is no formal comment period, public comments on this regulation are welcome on a continuing basis. Comments should be submitted to Sharron Cook, Office of Exporter Services, Bureau of Industry and Security, Department of Commerce, P.O. Box 273, Washington, DC 20044.

List of Subjects

15 CFR Parts 738 and 772

Exports, Foreign trade.

15 CFR Part 740

Administrative practice and procedure, Exports, Foreign trade, Reporting and recordkeeping requirements.

Accordingly, parts 738, 740, and 772 of the Export Administration Regulations (15 CFR parts 730-799) are amended as follows:

PART 738—[AMENDED]

1. The authority citation for 15 CFR part 738 is revised to read as follows:

Authority: 50 U.S.C. app. 2401 et seq.; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 7, 2003, 68 FR 47833, August 11, 2003.

2. Supplement No. 1 to part 738 is amended by removing the “X” under “NP 1” in the “Nuclear Nonproliferation” column for “Kazakhstan”.

PART 740—[AMENDED]

3. The authority citation for 15 CFR part 740 continues to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 7, 2003, 68 FR 47833, August 11, 2003.

4. Supplement Number 1 to part 740, Country Groups, is amended in the table for Country Group A, by adding an entry for “Kazakhstan” in alphabetic order, to read as follows:

Supplement No. 1 to Part 740—Country Groups
Country Group A
Country |  | Missile technology control regime | Australia group | Nuclear suppliers group
| [A:1] | [A:2] | [A:3] | [A:4]
Kazakhstan |  |  |  | X
* * * * * * *

* * * * *

PART 772—[AMENDED]

5. The authority citation for 15 CFR part 772 continues to read as follows:

Authority: 50 U.S.C. app. 2401 et seq.; 50 U.S.C. 1701 et seq.; E.O. 13222, 66 FR 44025, 3 CFR, 2001 Comp., p. 783; Notice of August 7, 2003, 68 FR 47833, August 11, 2003.

6. Section 772.1 is amended by revising the definition of “Nuclear Suppliers Group (NSG)” to read as follows:

§ 772.1 Definitions of Terms as used in the Export Administration Regulations (EAR).

* * * * *

Nuclear Suppliers Group (NSG). The United States and other nations in this multilateral control regime have agreed to guidelines for restricting the export or reexport of items with nuclear applications. Members include: Argentina, Australia, Austria, Belarus, Belgium, Brazil, Bulgaria, Canada, Cyprus, Czech Republic, Denmark, Finland, France, Germany, Greece, Hungary, Ireland, Italy, Japan, Kazakhstan, Latvia, Luxembourg, the Netherlands, New Zealand, Norway, Poland, Portugal, Republic of Korea, Romania, Russia, Slovak Republic, Slovenia, Spain, South Africa, Sweden, Switzerland, Turkey, Ukraine, the United Kingdom, and the United States. See also § 742.3 of the EAR.

* * * * *

Dated: October 15, 2003.
Matthew S. Borman,
Acting Assistant Secretary for Export Administration.

[FR Doc. 03-26563 Filed 10-21-03; 8:45 am]

BILLING CODE 3510-33-P